DEPARTMENT OF COMMERCE

Bureau of Industry and Security

Order; In the Matter of: Nicolas Ayala, 25 NE Fifth Street Apt 1720, Miami, FL 33132

On September 6, 2023, I issued an Order ¹ denying Nicholas Ayala (“Ayala”) all U.S. export privileges until November 16, 2032, pursuant to section 1760(e) of the Export Control Reform Act (“ECRA”),² and section 766.25 of the Export Administration Regulations,³ and based on a criminal conviction of violating 18 U.S.C. 371 and 18 U.S.C. 554.

¹ 88 FR 62536 (Sept. 12, 2023).

² ECRA was enacted on August 13, 2018, as part of the John S. McCain National Defense Authorization Act for Fiscal Year 2019, and as amended is codified at 50 U.S.C. 4801-4852.

³ The Regulations are currently codified in the Code of Federal Regulations at 15 CFR parts 730-774 (2024).

Whereas, in the September 6, 2023 Order, Ayala's first name was misspelled in the caption and the text of the Order. The correct spelling should be “Nicolas Ayala” instead of “Nicholas Ayala”;

Whereas, the September 6, 2023 Order identified Ayala's address as “Inmate Number: 97331-509, FCI Edgefield, P.O. Box 725, Edgefield, SC 29824”;

Whereas, the Office of Export Enforcement, Bureau of Industry and Security, U.S. Department of Commerce (“Department”), has confirmed that the address is no longer correct, and that Ayala's current last known address is “25 NE Fifth Street Apt 1720, Miami, FL 33132”.

Accordingly, it is hereby ordered:

First, the September 6, 2023 Order denying all U.S. export privileges to Ayala is amended by correcting the spelling of the Respondent's name to Nicolas Ayala in the caption and text of the Order.

Second, the September 6, 2023 Order denying all U.S. export privileges to Ayala is amended by deleting the address “Inmate Number: 97331-509, FCI Edgefield, P.O. Box 725, Edgefield, SC 29824” and by adding the address “25 NE Fifth Street Apt 1720, Miami, FL 33132”. In all other aspects, the September 6, 2023 Order remains in full force and effect.

This Order, which is effective immediately, shall be published in the Federal Register.

John Sonderman,
Director, Office of Exporter Services.

[FR Doc. 2024-18398 Filed 8-15-24; 8:45 am]

BILLING CODE 3510-DT-P